DEPARTMENT OF COMMERCE

Bureau of Industry and Security

15 CFR Part 772

Definitions of Terms

CFR Correction

In Title 15 of the Code of Federal Regulations, Parts 300 to 799, revised as of January 1, 2007, on page 577, in § 772.1, in the second column, the second definition of Production is removed.

[FR Doc. 07-55526 Filed 12-27-07; 8:45 am]

BILLING CODE 1505-01-D